FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/Address | Date reissued
018075N | Rapidus, LLC, 3345 NW 116th Street, Miami, FL 33167 | December 2, 2003.
017258NF | Skycel, Inc., dba Econcargo, 8211 NW 68th Street, Miami, FL 33166 | February 18, 2004.
15847NF | Straightline Logistics, Inc., Cargo Bldg. 80, Suite 2A, JFK Int'l Airport, Jamaica, NY 11430 | August 29, 2003.
012530N | U.S. National Lines, Inc., 214-77 Jamaica Avenue, Queens Village, NY 11428 | April 3, 2004.

Sandra L. Kusumoto,
Director, Bureau of Consumer Complaints and Licensing.

[FR Doc. 04-14246 Filed 6-22-04; 8:45 am]

BILLING CODE 6730-01-P